DEPARTMENT OF COMMERCE

Foreign-Trade Zones Board

[Docket 56-2000]

Foreign-Trade Zone 70—Detroit, Michigan Area, Application for Expansion

An application has been submitted to the Foreign-Trade Zones (FTZ) Board (the Board), by the Greater Detroit Foreign-Trade Zone, Inc., grantee of Foreign-Trade Zone 70, requesting authority to expand its zone to include an additional site in the Detroit, Michigan area, within the Detroit Customs port of entry. The application was submitted pursuant to the provisions of the Foreign-Trade Zones Act, as amended (19 U.S.C. 81a-81u), and the regulations of the Board (15 CFR Part 400). It was formally filed on September 29, 2000.

FTZ 70 was approved on July 21, 1981 (Board Order 176, 46 FR 38941, 7/30/81) and expanded on April 15, 1985 (Board Order 299, 50 FR 16119, 4/24/85); November 27, 1989 (Board Order 453, 54 FR 50258, 12/5/89); April 20, 1990 (Board Order 471, 55 FR 17775, 4/27/90); February 20, 1996 (Board Order 802, 61 FR 7237, 2/27/96); and, August 26, 1996 (Board Order 843, 61 FR 46763, 9/5/96). The general-purpose zone project currently consists of 15 sites (some 300 acres) for warehousing/storage operations in the Detroit, Michigan area. An application is currently pending for an additional site at the Buske Lines logistics complex in Brownstown Township (FTZ Doc. 42-2000).

The applicant is now requesting authority to expand the general-purpose zone to include an additional site Proposed Site 17 (593 acres)—within the 1,265 acre Pinnacle Aeropark of Wayne County, located at the southern end of Detroit Metropolitan Airport, east of I-275 and south of Eureka Road. The site encompasses a portion of Huron Township and the City of Romulus. It is owned by Wayne County and will be operated by W. F. Whelan Company. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is December 5, 2000. Rebuttal comments in response to material submitted during the foregoing period may be submitted during the subsequent 15-day period to December 20, 2000.

A copy of the application and accompanying exhibits will be available for public inspection at each of the following locations:

U.S. Department of Commerce, Export Assistance Center, 211 W. Fort Street, Suite 2220, Detroit, MI 48226

Office of the Executive Secretary, Foreign-Trade Zones Board, Room 4008, U.S. Department of Commerce 14th & Pennsylvania Avenue, NW, Washington, DC 20230.

Dated: September 29, 2000.
Dennis Puccinelli,
Executive Secretary.

[FR Doc. 00-25792 Filed 10-5-00; 8:45 am]

BILLING CODE 3510-DS-P